FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011463-008.

Title: East Coast of North America to West Coast of South America and Caribbean Cooperative Working Agreement.

Parties: Compania Sud Americana de Vapores S.A.; Norasia Container Lines Limited; Hamburg-Sud; and Compania Chilena de Navagacion Interoceania, S.A.

Filing Party: Walter H. Lion, Esq.; McLaughlin & Stern, LLP; 260 Madison Avenue; New York, NY 10018.

Synopsis: The amendment modifies the Agreement to reflect CSAV's transfer of its container shipping business to its wholly-owned subsidiary, Norasia, modifying agreement provisions accordingly.

Agreement No.: 011795-004.

Title: Puerto Rican Cross Space Charter and Sailing Agreement.

Parties: Compania Sud Americana de Vapores S.A.; Norasia Container Lines Limited; and Compania Chilena de Navegacion Interoceanica S.A.

Filing Party: Walter H. Lion, Esq.; McLaughlin & Stern, LLP; 260 Madison Avenue; New York, NY 10016.

Synopsis: The amendment modifies the Agreement to reflect CSAV's transfer of its container shipping business to its wholly-owned subsidiary, Norasia, modifying agreement provisions accordingly.

Agreement No.: 012100-003.

Title: CMA CGM/Norasia Gulf Bridge Express Vessel Sharing Agreement.

Parties: CMA CGM, S.A; Compania Sud Americana de Vapores S.A.; and Norasia Container Lines Limited.

Filing Party: Walter H. Lion, Esq.; McLaughlin & Stern, LLP; 260 Madison Avenue; New York, NY 10016.

Synopsis: The amendment modifies the Agreement to reflect CSAV's transfer of its container shipping business to its wholly-owned subsidiary, Norasia, modifying agreement provisions accordingly.

Agreement No.: 012103-004.

Title: CMA CGM/Norasia Victory Bridge Vessel Sharing Agreement.

Parties: CMA CGM, S.A.; Compania Sud American de Vapores S.A.; and Norasia Container Lines Limited.

Filing Party: Walter H. Lion, Esq.; McLaughlin & Stern, LLP; 260 Madison Avenue; New York, NY 10016.

Synopsis: The amendment modifies the Agreement to reflect CSAV's transfer of its container shipping business to its wholly-owned subsidiary, Norasia, modifying agreement provisions accordingly.

Agreement No.: 012138-001.

Title: NORASIA/CCNI Venezuela Space Charter Agreement.

Parties: Compana Sud Americana de Vapores S.A.; Norasia Lines Limited; and Compania Chilena de Navegacion Interoceanica S.A..

Filing Party: Walter H. Lion, Esq.; McLaughlin & Stern, LLP; 260 Madison Avenue; New York, NY 10016.

Synopsis: The amendment modifies the Agreement to reflect CSAV's transfer of its container shipping business to its wholly-owned subsidiary, Norasia, modifying agreement provisions accordingly.

Agreement No.: 012286.

Title: CSAV/NCLL/CMA CGM Space Charter Agreement.

Parties: CMA CGM, S.A; Compania Sud Americana de Vapores S.A.; and Norasia Container Lines Limited.

Filing Party: Draughn B. Arbona, Esq.; CMA CGM (America) LLC; 5701 Lake Wright Drive; Norfolk, VA 23502.

Synopsis: The agreement authorizes CSAV/Norasia to charter space to CMA CGM for the carriage of empty containers between the U.S. East Coast and China.

By Order of the Federal Maritime Commission.
Dated: July 3, 2014.
Rachel E. Dickon,
Secretary.

[FR Doc. 2014-16052 Filed 7-8-14; 8:45 am]

BILLING CODE 6730-01-P